DEPARTMENT OF TRANSPORTATION

Federal Transit Administration

[FTA-2025-0069]

Request for Information Concerning the Capital Investment Grants Program

AGENCY: Federal Transit Administration (FTA), Department of Transportation (DOT).

ACTION: Request for information.

SUMMARY: The Federal Transit Administration (FTA) is seeking suggestions from all transit stakeholders (transit authorities, planning officials, States, cities, the private sector, and the public) on ways to streamline and enhance the Capital Investment Grants (CIG) Police Guidance while increasing the accountability of project sponsors and ensuring federal investment in the most successful projects.

DATES: Comments must be received on or before September 18, 2025. Late-filed comments will be considered to the extent practicable.

ADDRESSES: You may submit comments to DOT docket number FTA-2025-0069 by any of the following methods:

Federal eRulemaking Portal: Go to https://www.regulations.gov and follow the online instructions for submitting comments.

U.S. Mail: Docket Management Facility, U.S. Department of Transportation, 1200 New Jersey Avenue SE, West Building, Room W12-140, Washington, DC 20590-0001.

Hand Delivery or Courier: U.S. Department of Transportation, 1200 New Jersey Avenue SE, West Building, Ground Floor, Room W12-140, Washington, DC 20590, between 9 a.m. and 5 p.m., Monday through Friday, except Federal holidays.

Fax: 202-493-2251.

Instructions: You must include the agency name (Federal Transit Administration) and docket number (FTA-2025-0069) for this notice at the beginning of your comments. You must submit two copies of your comments if you submit them by mail. If you wish to receive confirmation FTA received your comments, you must include a self-addressed, stamped postcard. Due to security procedures in effect since October 2001, mail received through the U.S. Postal Service may be subject to delays. Parties submitting comments may wish to consider using an express mail firm to ensure prompt filing of any submissions not filed electronically or by hand.

All comments received will be posted, without charge and including any personal information provided, to http://www.regulations.gov, where they will be available to internet users. You may review DOT's complete Privacy Act Statement published in the

Federal Register on April 11, 2000, at 65 FR 19477. For access to the docket and to read background documents and comments received, go to http://regulations.gov at any time or to the U.S. Department of Transportation, 1200 New Jersey Avenue SE, Docket Management Facility, West Building, Ground Floor, Room W12-140, Washington, DC 20590, between 9 a.m. and 5 p.m., Monday through Friday, except Federal holidays.

FOR FURTHER INFORMATION CONTACT: Mark Ferroni, FTA Office of Planning and Environment at mark.ferroni@dot.gov, or 202.366.3233.

SUPPLEMENTARY INFORMATION:

Background

FTA seeks feedback from interested parties, on ways to streamline and enhance the CIG Policy Guidance, last published in December 2024, (https://www.transit.dot.gov/funding/grants/grant-programs/capital-investments/2024-cig-policy-guidance)—specifically, ways to increase the accountability of project sponsors and ensuring federal investment in the most successful projects. FTA seeks comment on project rating and evaluation criteria and the CIG process, to inform development of a potential future comprehensive update to the CIG policy guidance FTA would propose for public comment.

FTA requests commenters refrain from providing feedback requiring a statutory change to implement, as FTA does not have authority or discretion to change statutory requirements. Respondents may respond to any question and do not need to respond to all questions. FTA looks forward to receiving feedback from all interested parties.

Economic Development Criterion (New Starts, Small Starts, and Core Capacity Projects) and Land Use Criterion (New Starts and Small Starts Projects)

Currently, FTA evaluates the Economic Development criterion for New Starts, Small Starts, and Core Capacity projects based on the extent to which a proposed project is likely to induce additional transit-supportive development in the future. The evaluation examines: (1) Supportive zoning in station areas, including zoning for universal design; (2) Performance and impacts of transit-supportive plans and policies (e.g., growth management, transit-supportive corridor policies, tools to implement transit-supportive plans and policies, and potential impact of the transit project on station area development); and (3) Tools to maintain or increase the share of affordable housing in station areas (e.g., evaluation of affordable housing needs and supply specific to station areas, plans and policies to preserve and increase affordable housing, adopted financing tools and strategies to preserve and increase affordable housing, and developer activity to preserve and increase affordable housing).

FTA currently evaluates the Land Use criterion for New Starts and Small Starts projects by examining what exists in the project corridor today. The evaluation examines the average existing population density across all station areas in the project corridor, total existing employment served by the project, the proportion of existing legally binding affordability restricted (LBAR) housing within a ½ mile of station areas to the proportion of LBAR housing in the counties through which the project travels, the level of community risk based on certain census data characteristics, and access to essential services.

FTA seeks feedback from interested parties on the following questions:

1. Should FTA consider under the Economic Development and/or Land Use criterion ways to further capture population growth? If so, why and how?

2. Should FTA consider under the Economic Development and/or Land Use criterion ways to further capture transit-oriented development? If so, why and how?

3. Should FTA consider under the Economic Development and/or Land Use criterion ways to capture opportunity zones as defined by the U.S. Department of Housing and Urban Development? If so, why and how?

CIG Process (New Starts, Small Starts and Core Capacity Projects)

To receive discretionary funding under the CIG program, an applicant must complete the multi-year, multi-step process outlined at 49 U.S.C. 5309 for the proposed major transit capital project.

The law establishes three categories of projects eligible under the CIG program, referred to as New Starts, Small Starts, and Core Capacity projects. The law specifies project justification and local financial commitment evaluation criteria FTA must use to develop a project rating on a five-point scale from low to high (49 U.S.C. 5309(d), (e), and (h)). A project must receive a Medium or better overall rating to advance to the Engineering phase (for New Starts and Core Capacity projects) and to receive a construction grant award (for all three types of projects). Each project type has a unique set of requirements and evaluation criteria in law, although many similarities exist among them.

4. How should FTA streamline and/or simplify the CIG process, consistent with statutory requirements? Including:

a. Potential revisions to the factors and weighting FTA uses to evaluate the statutorily required project justification and local financial commitment criteria; and

b. Potential revisions and/or expansion to the project justification warrants process.

Merits of CIG Projects

FTA is required to evaluate and rate the merits of proposed CIG projects. Part of this process is to evaluate the reliability and accuracy of the predictions for anticipated project ridership and related impacts made by project sponsors. The CIG ratings process uses projections made from travel forecasts to evaluate four of the six project justification measures, including: mobility improvements, cost-effectiveness, congestion relief, and environmental benefits. The travel forecasting process is dependent on accurately isolating how the CIG project will change the customer experience of travelers in the project corridor.

In 2013, FTA released the Simplified Trips on Project Software (STOPS) program as a streamlined travel forecasting methodology. FTA has worked diligently to calibrate and validate this model based on actual project experience obtained through FTA's Information Collection and Analysis Plan (previously known as Before and After study). This work has demonstrated when given actual, as-built project service attributes, STOPS will generate an acceptably accurate ridership forecast in a variety of contexts for all fixed-guideway modes.

FTA's Information Collection and Analysis Plan analyzes predicted and actual outcomes for completed CIG projects in five topic areas, including: capital-costs, operating and maintenance costs, physical scope, service, and ridership. When the CIG project choice and operating assumptions are inaccurate, it directly translates to inaccurate or distorted estimates of project ridership and benefits from a Federal investment.

5. How could FTA work with potential project sponsors to improve the rightsizing of projects and accuracy of operating plans developed to prepare the ridership projections for CIG projects?

Marcus J. Molinaro,
Administrator.

[FR Doc. 2025-15795 Filed 8-18-25; 8:45 am]

BILLING CODE 4910-57-P